DEPARTMENT OF COMMERCE

International Trade Administration

[A-570-894]

Certain Tissue Paper Products from the People's Republic of China: Extension of Preliminary Results of Antidumping Duty Administrative Review

AGENCY: Import Administration, International Trade Administration, Department of Commerce.

SUMMARY: The Department of Commerce (“the Department”) is extending the time limit for the preliminary results of the administrative review of certain tissue paper products from the People's Republic of China (“PRC”). This review cover the period March 1, 2006, through February 28, 2007.

EFFECTIVE DATE: November 20, 2007.

FOR FURTHER INFORMATION CONTACT: Bobby Wong or Cindy Robinson, AD/CVD Operations, Office 9, Import Administration, International Trade Administration, U.S. Department of Commerce, 14th Street and Constitution Avenue, N.W., Washington, D.C. 20230; telephone: (202) 482-0409 or (202) 482-3797, respectively.

Background

On March 30, 2005, the Department published in the Federal Register an antidumping duty order covering certain tissue paper from the People's Republic of China (“PRC”). See Notice of Amended Final Determination of Sales at Less than Fair Value and Antidumping Duty Order: Certain Tissue Paper Products from the People's Republic of China, 70 FR 16223 (March 30, 2005). On April 27, 2007, the Department published a notice of initiation of the administrative review of the antidumping duty order on certain tissue paper products from the PRC. See Initiation of Antidumping and Countervailing Duty Administrative Reviews, 72 FR 20986 (April 27, 2007).

The preliminary results of this review are currently due no later than December 3, 2007, which is the first business day after the current statutory deadline for the preliminary determination.

Statutory Time Limits

In antidumping duty adminstrative reviews, section 751(a)(3)(A) of the Tariff Act of 1930, as amended (“the Act”), requires the Department to make a preliminary determination within 245 days after the last day of the anniversary month of an order for which a review is requested and a final determination within 120 days after the date on which the preliminary results are published. However, if it is not practicable to complete the review within these time periods, section 751(a)(3)(A) of the Act allows the Department to extend the time limit for the preliminary determination to a maximum of 365 days after the last day of the anniversary month.

Extension of Time Limit for Preliminary Results of Review

We determine that it is not practicable to complete the preliminary results of this administrative within the original time limit because the Department requires additional time to analyze questionnaire responses, issue supplemental questionnaires, conduct verification, and evaluate the most appropriate surrogate value data to use during the period of review.

Therefore, the Department is extending the time limit for completion of the preliminary results of this administrative review by 61 days. The preliminary results will now be due no later than January 31, 2008. The final results continue to be due 120 days after the publication of the preliminary results.

We are issuing and publishing this notice in accordance with sections 751(a)(3)(A) and 777(i) of the Act.

Dated: November 14, 2007.
Stephen J. Claeys,
Deputy Assistant Secretary for Import Administration.

[FR Doc. E7-22684 Filed 11-19-07; 8:45 am]

BILLING CODE 3510-DS-S